DEPARTMENT OF ENERGY

Federal Energy Regulatory Commission

Combined Notice of Filings #1

Take notice that the Commission received the following electric rate filings:

Docket Numbers: ER10-1123-013; ER10-1119-011.

Applicants: Central Illinois Public Service Company, Union Electric Company.

Description: Notice of Change in Status of Union Electric.

Filed Date: 11/5/24.

Accession Number: 20241105-5259.

Comment Date: 5 p.m. ET 11/26/24.

Docket Numbers: ER10-1849-033; ER10-1851-019; ER10-1852-099 ER13-752-022; ER13-1991-033; ER13-1992-033 ER18-882-021; ER18-1534-015; ER19-1393-019 ER19-1394-019; ER19-2269-010; ER19-2437-015 ER20-1986-010; ER21-1682-007; ER21-1879-007 ER21-2118-009; ER21-2293-009; ER21-2296-009 ER22-381-013; ER22-2706-006; ER23-1541-003 ER23-1542-003; ER23-1543-003; ER23-2321-003 ER24-26-003; ER24-1289-001; ER24-2662-001.

Applicants: Duane Arnold Solar II, LLC, Decatur Solar Energy Center, LLC, East Point Energy Center, LLC, Dunns Bridge Energy Storage, LLC, Desert Peak Energy Storage II, LLC, Desert Peak Energy Storage I, LLC, Desert Peak Energy Center, LLC, Eight Point Wind, LLC, Dunns Bridge Solar Center, LLC, Ensign Wind Energy, LLC, Fish Springs Ranch Solar, LLC, Dodge Flat Solar, LLC, Farmington Solar, LLC, Elora Solar, LLC, Day County Wind I, LLC, Emmons-Logan Wind, LLC, Dougherty County Solar, LLC, Endeavor Wind II, LLC, Endeavor Wind I, LLC, East Hampton Energy Storage Center, LLC, Elk City Renewables II, LLC, Desert Sunlight 300, LLC, Desert Sunlight 250, LLC, Energy Storage Holdings, LLC, Florida Power & Light Company, ESI Vansycle Partners, L.P., Elk City Wind, LLC.

Description: Notice of Change in Status of Adelanto Solar II, LLC, et al. Part 3 of 6.

Filed Date: 10/31/24.

Accession Number: 20241031-5421.

Comment Date: 5 p.m. ET 11/21/24.

Docket Numbers: ER10-1899-023; ER10-1907-031; ER10-1918-032 ER10-1930-019; ER10-1931-020; ER10-1932-022 ER10-1935-023; ER10-1950-032; ER10-1962-028 ER10-1966-023; ER11-2160-028; ER11-2642-027 ER11-3635-021; ER12-895-032; ER12-1228-034 ER12-2225-022; ER12-2226-022; ER13-2112-023 ER13-2147-009; ER14-21-017; ER14-1630-019 ER14-2138-019; ER14-2447-003; ER14-2707-029 ER15-1375-022; ER15-2101-017; ER15-2477-021 ER15-2601-015; ER16-90-021; ER16-1354-017 ER16-1872-022; ER16-2275-022; ER16-2276-022 ER17-2340-018; ER18-1535-014; ER18-1771-022 ER18-2003-018; ER18-2066-013; ER18-2182-019 ER18-2246-021; ER19-1392-012; ER19-2389-013 ER19-2398-017; ER20-1907-011; ER20-2019-011 ER20-2064-012; ER20-2690-013; ER20-2695-013 ER21-254-009; ER21-1953-011; ER21-2117-010 ER21-2149-010; ER21-2225-010; ER21-2699-011 ER22-1982-009; ER22-2536-006; ER23-2629-004 ER24-827-002; ER24-1816-002; ER24-2512-001 ER24-2513-001; ER24-2514-001; ER24-2794-001 ER10-1857-022; ER10-1890-028.

Applicants: FPL Energy Green Power Wind, LLC, FPL Energy Cape, LLC, Minco II Energy Storage, LLC, FRP Gadsden County Solar, LLC, FRP Columbia County Solar, LLC, FRP Gilchrist County Solar, LLC, High River Energy Center, LLC, Grace Orchard Energy Center, LLC, High Banks Wind, LLC, Kossuth County Wind, LLC, Great Prairie Wind, LLC, Minco Wind Energy III, LLC, Irish Creek Wind, LLC, Minco Wind Energy II, LLC, Little Blue Wind Project, LLC, Heartland Divide Wind II, LLC, Harmony Florida Solar, LLC, Mohave County Wind Farm LLC, Jordan Creek Wind Farm LLC, High Majestic Wind I, LLC, Gray County Wind, LLC, Minco Wind I, LLC, Hancock County Wind, LLC, Grazing Yak Solar, LLC, High Lonesome Mesa Wind, LLC, Heartland Divide Wind Project, LLC, Minco IV & V Interconnection, LLC, Minco Wind IV, LLC, Lorenzo Wind, LLC, Langdon Renewables, LLC, Montauk Energy Storage Center, LLC, Golden Hills North Wind, LLC, Kingman Wind Energy II, LLC, Kingman Wind Energy I, LLC, Marshall Solar, LLC, Live Oak Solar, LLC, Golden Hills Interconnection, LLC, Green Mountain Storage, LLC, Golden Hills Wind, LLC, Golden West Power Partners, LLC, McCoy Solar, LLC, Mammoth Plains Wind Project, LLC, Granite Reliable Power, LLC, Limon Wind III, LLC ,Mantua Creek Solar, LLC, Mountain View Solar, LLC, Frontier Utilities Northeast LLC, Genesis Solar, LLC, Limon Wind, LLC, Limon Wind II, LLC, High Majestic Wind II, LLC, Minco Wind Interconnection Services, LLC, Hatch Solar Energy Center I, LLC, FPL Energy South Dakota Wind, LLC, FPL Energy Montezuma Wind, LLC, Logan Wind Energy LLC, High Winds, LLC, Garden Wind, LLC, FPL Energy Wyman IV, LLC, FPL Energy Wyman, LLC, FPL Energy Vansycle, L.L.C., FPL Energy Stateline II, Inc., FPL Energy North Dakota Wind II, LLC, FPL Energy North Dakota Wind, LLC, FPL Energy Illinois Wind, LLC.

Description: Notice of Change in Status of Adelanto Solar II, LLC, et al. Part 4 of 6.

Filed Date: 11/1/24.

Accession Number: 20241101-5311.

Comment Date: 5 p.m. ET 11/22/24.

Docket Numbers: ER10-1951-073; ER10-1970-031; ER10-1972-031 ER10-1973-021; ER10-1974-032; ER10-2641-048 ER11-2192-023; ER11-2365-011; ER11-4462-097 ER11-4677-029; ER12-676-023; ER12-2444-027 ER13-2461-025; ER14-2710-029; ER15-58-027 ER16-1440-023; ER16-1913-015; ER16-2241-022 ER16-2297-023; ER16-2443-018; ER16-2506-024 ER17-196-011; ER17-838-071; ER17-1774-013 ER18-772-013; ER18-807-014; ER18-1981-018 ER18-2224-022; ER19-11-013; ER19-1128-012 ER19-2266-010; ER20-792-012; ER20-1219-010 ER20-1220-013; ER20-1417-011; ER20-1879-014 ER20-1985-010; ER20-1988-011; ER20-1991-012 ER20-2012-010; ER20-2648-011; ER21-183-008 ER21-1532-007; ER21-1880-007; ER21-2100-010 ER21-2641-007; ER22-96-006; ER23-147-005 ER23-148-005; ER23-489-006; ER23-1208-003 ER23-1862-003; ER24-34-004; ER24-2792-001 ER24-2793-001.

Applicants: Ponderosa Wind II, LLC, Oliver Wind IV, LLC, Proxima Solar, LLC, Roundhouse Renewable Energy II, LLC, North Central Valley Energy Storage, LLC, Neptune Energy Center, LLC, Resurgence Solar II, LLC, Resurgence Solar I, LLC, Route 66 Solar Energy Center, LLC, Quinebaug Solar, LLC, Point Beach Solar, LLC, Niyol Wind, LLC, Quitman II Solar, LLC, Nutmeg Solar, LLC, Northern Divide Wind, LLC, Orbit Bloom Energy, LLC, Ponderosa Wind, LLC, Northern Colorado Wind Energy Center II, LLC, Northern Colorado Wind Energy Center, LLC, Oliver Wind I, LLC, Roundhouse Renewable Energy, LLC, Oliver Wind II, LLC, Peetz Table Wind, LLC, Oklahoma Wind, LLC, Quitman Solar, LLC ,Rush Springs Energy Storage, LLC, Peetz Logan Interconnect, LLC, Pegasus Wind, LLC, Pratt Wind, LLC, Pinal Central Energy Center, LLC, New Mexico Wind, LLC, NextEra Energy Bluff Point, LLC, NextEra Energy Marketing, LLC, Pima Energy Storage System, LLC, Oliver Wind III, LLC, NextEra Blythe Solar Energy Center, LLC, Osborn Wind Energy, LLC, Ninnescah Wind Energy, LLC, River Bend Solar, LLC, Roswell Solar, LLC, Palo Duro Wind Interconnection Services, LLC, Palo Duro Wind Energy, LLC, Pheasant Run Wind, LLC, North Sky River Energy, LLC, Perrin Ranch Wind, LLC, NextEra Energy Montezuma II Wind, LLC, NEPM II, LLC, Paradise Solar Urban Renewal, L.L.C., Red Mesa Wind, LLC, Oleander Power Project, Limited Partnership, Northeast Energy Associates, A Limited Partnership, NextEra Energy Seabrook, LLC, NextEra Energy Point Beach, LLC, NextEra Energy Duane Arnold, LLC, NextEra Energy Services Massachusetts, LLC.

Description: Notice of Change in Status of Adelanto Solar II, LLC, et al. Part 5 of 6.

Filed Date: 11/1/24.

Accession Number: 20241101-5312.

Comment Date: 5 p.m. ET 11/22/24.

Docket Numbers: ER10-2078-030; ER11-4678-028; ER12-631-029; ER12-1660-031; ER13-2458-026; ER14-2708-030; ER14-2709-029; ER15-30-027; ER15-1016-021; ER15-2243-019; ER16-1277-017; ER16-1293-017; ER16-2240-023; ER17-582-020; ER17-583-020; ER17-2270-023; ER18-2032-018; ER18-2091-015; ER18-2314-016; ER19-744-001; ER19-1076-013; ER19-2382-015; ER19-2495-014; ER19-2513-014; ER20-637-012; ER20-780-012; ER20-2070-008; ER20-2153-010; ER20-2237-012; ER20-2380-010; ER20-2597-012; ER20-2603-012; ER20-2622-008; ER21-255-009; ER21-744-007; ER21-1506-008; ER21-1580-010; ER21-2048-011; ER21-2109-006; ER22-1370-009; ER22-1870-005; ER22-2601-006; ER22-2824-008; ER23-493-006; ER23-853-003; ER23-854-004; ER23-884-004; ER24-61-003; ER24-136-005; ER24-818-002; ER24-1287-002; ER24-1288-002; ER24-2848-001.

Applicants: Troutdale Grid, LLC, Washington County Solar, LLC, Wadley Solar, LLC, Yellow Pine Solar II, LLC, Sunlight Storage II, LLC, Sky Ranch Solar, LLC, Sonoran Solar Energy, LLC, Storey Energy Center, LLC, Saint Energy Storage II, LLC, Thunder Wolf Energy Center, LLC, Yellow Pine Solar, LLC, Walleye Wind, LLC, Vansycle II Wind, LLC, Sunlight Storage, LLC, Wheatridge Solar Energy Center, LLC, Sac County Wind, LLC, Sky River Wind, LLC, Shaw Creek Solar, LLC, Wallingford Renewable Energy LLC, Taylor Creek Solar, LLC, Wilmot Energy Center, LLC, Skeleton Creek Wind, LLC, Soldier Creek Wind, LLC, Saint Solar, LLC, Weatherford Wind, LLC, Sanford Airport Solar, LLC, Wheatridge Wind II, LLC, Sooner Wind, LLC, Wilton Wind Energy I, LLC, Wilton Wind Energy II, LLC, Wessington Springs Wind, LLC, Story County Wind, LLC, Windstar Energy, LLC, PJM Interconnection, L.L.C., Sholes Wind Energy, LLC, Titan Solar, LLC, Wildcat Ranch Wind Project, LLC, Stuttgart Solar, LLC, Whitney Point Solar, LLC, Westside Solar, LLC, Rush Springs Wind Energy, LLC, White Oak Solar, LLC, White Pine Solar, LLC, Silver State Solar Power South, LLC, Shafter Solar, LLC, Seiling Wind Interconnection Services, LLC, Seiling Wind II, LLC, Seiling Wind, LLC, Tuscola Wind II, LLC, Tuscola Bay Wind, LLC, Windpower Partners 1993, LLC, Vasco Winds, LLC, White Oak Energy LLC.

Description: Notice of Change in Status of Adelanto Solar II, LLC, et al. Part 6 of 6.

Filed Date: 11/1/24.

Accession Number: 20241101-5313.

Comment Date: 5 p.m. ET 11/22/24.

Docket Numbers: ER10-2835-011.

Applicants: Google Energy LLC.

Description: Supplement to 01/31/2024, Notice of Change in Status of Google Energy LLC.

Filed Date: 11/5/24.

Accession Number: 20241105-5257.

Comment Date: 5 p.m. ET 11/26/24.

Docket Numbers: ER13-712-035; ER15-2582-016; ER15-2676-026; ER16-1672-025; ER17-804-005; ER17-2152-020; ER18-1863-016; ER18-1978-014; ER19-987-019; ER19-1003-019; ER19-2461-015; ER20-122-013; ER20-1769-012; ER20-1980-009; ER20-1987-014; ER20-2049-008; ER21-1320-009; ER21-1519-007; ER22-2518-004; ER22-2634-006; ER22-2516-005; ER23-2107-003; ER23-2694-003; ER23-2915-003; ER24-359-003; ER24-1804-003.

Applicants: Clearwater Wind III, LLC, Crow Creek Solar, LLC, Chesapeake Solar Project, LLC, Cereal City Solar, LLC, Clearwater Wind II, LLC, Chaves County Solar II, LLC, Buffalo Ridge Wind, LLC, Clearwater Wind I, LLC, Cool Springs Solar, LLC, Crystal Lake Wind Energy III, LLC, Cedar Springs Wind III, LLC, Cerro Gordo Wind, LLC, Cedar Springs Wind, LLC, Chicot Solar, LLC, Crowned Ridge Interconnection, LLC, Crowned Ridge Wind, LLC, Crystal Lake Wind Energy II, LLC, Crystal Lake Wind Energy I, LLC, Casa Mesa Wind, LLC, Coolidge Solar I, LLC, Cottonwood Wind Project, LLC, Coram California Development, L.P., Chaves County Solar, LLC, Cedar Bluff Wind, LLC, Carousel Wind Farm, LLC, Cimarron Wind Energy, LLC.

Description: Notice of Change in Status of Adelanto Solar II, LLC, et al. Part 2 of 6.

Filed Date: 10/31/24.

Accession Number: 20241031-5420.

Comment Date: 5 p.m. ET 11/21/24.

Docket Numbers: ER15-1418-022; ER10-1841-032; ER10-2005-032; ER15-1883-022; ER15-1925-027; ER16-91-021; ER16-632-021; ER16-2190-023; ER16-2191-023; ER16-2453-024; ER18-2118-019; ER19-1073-012; ER19-2373-015; ER19-2901-013; ER20-819-015; ER20-820-014; ER20-2179-011; ER21-1990-008; ER21-2294-011; ER21-2304-010; ER21-2674-007; ER22-415-009; ER23-71-003; ER23-568-006; ER23-883-002; ER23-2404-005; ER24-817-004.

Applicants: Babbitt Ranch Energy Center, LLC, Bronco Plains Wind II, LLC, Bell Ridge Solar, LLC, Big Cypress Solar, LLC, Buena Vista Energy Center, LLC, Arlington Energy Center III, LLC, Borderlands Wind, LLC, Arlington Solar, LLC, Arlington Energy Center II, LLC, Blackwell Wind Energy, LLC, Baldwin Wind Energy, LLC, Blythe Solar IV, LLC, Blythe Solar III, LLC, Bronco Plains Wind, LLC, Ashtabula Wind I, LLC, Alta Wind VIII, LLC, Armadillo Flats Wind Project, LLC, Brady Interconnection, LLC, Brady Wind II, LLC, Brady Wind, LLC, Blythe Solar II, LLC, Blythe Solar 110, LLC, Breckinridge Wind Project, LLC, Adelanto Solar, LLC, Ashtabula Wind II, LLC, Butler Ridge Wind Energy Center, LLC, Adelanto Solar II, LLC.

Description: Notice of Change in Status of Adelanto Solar II, LLC, et al. Part 1 of 6.

Filed Date: 10/31/24.

Accession Number: 20241031-5419.

Comment Date: 5 p.m. ET 11/21/24.

Docket Numbers: ER21-1635-011.

Applicants: PJM Interconnection, L.L.C.

Description: Compliance filing: Effective Date Revision to Black Start Filing to Reinstate Prior Rate to be effective 6/1/2024.

Filed Date: 11/7/24.

Accession Number: 20241107-5130.

Comment Date: 5 p.m. ET 11/29/24.

Docket Numbers: ER22-1863-002.

Applicants: Arizona Public Service Company.

Description: Compliance filing: Order No. 881 Compliance Filing to be effective N/A.

Filed Date: 11/7/24.

Accession Number: 20241107-5138.

Comment Date: 5 p.m. ET 11/29/24.

Docket Numbers: ER24-925-001.

Applicants: Wilderness Line Holdings, LLC.

Description: Compliance filing: 881 Compliance Timeline to be effective N/A.

Filed Date: 11/7/24.

Accession Number: 20241107-5087.

Comment Date: 5 p.m. ET 11/29/24.

Docket Numbers: ER24-3118-001.

Applicants: Wabash Valley Power Association, Inc.

Description: Tariff Amendment: Executed Facilities Construction Agreement—Clone to be effective 8/26/2024.

Filed Date: 11/7/24.

Accession Number: 20241107-5030.

Comment Date: 5 p.m. ET 11/29/24.

Docket Numbers: ER25-385-000.

Applicants: Midcontinent Independent System Operator, Inc.

Description: 205(d) Rate Filing: 2024-11-07_SA 3740 Entergy Louisiana-Willis Pond 2nd Rev GIA (J1421) to be effective 10/28/2024.

Filed Date: 11/7/24.

Accession Number: 20241107-5028.

Comment Date: 5 p.m. ET 11/29/24.

Docket Numbers: ER25-386-000.

Applicants: Midcontinent Independent System Operator, Inc., Ameren Illinois Company.

Description: 205(d) Rate Filing: Midcontinent Independent System Operator, Inc. submits tariff filing per 35.13(a)(2)(iii: 2024-11-07_SA 4385 and SA 4386_Ameren IL-Mt. Carmel WCA and UCA to be effective 1/7/2025.

Filed Date: 11/7/24.

Accession Number: 20241107-5035.

Comment Date: 5 p.m. ET 11/29/24.

Docket Numbers: ER25-387-000.

Applicants: Tenaska Power Services Co.

Description: Compliance filing: Soft Cap Justification Filing and Motion to Accept Filing Out of Time to be effective N/A.

Filed Date: 11/7/24.

Accession Number: 20241107-5042.

Comment Date: 5 p.m. ET 11/29/24.

Docket Numbers: ER25-388-000.

Applicants: PJM Interconnection, L.L.C.

Description: 205(d) Rate Filing: Amendment to WMPA, Service Agreement No. 6388; AG1-397 to be effective 1/7/2025.

Filed Date: 11/7/24.

Accession Number: 20241107-5048.

Comment Date: 5 p.m. ET 11/29/24.

Docket Numbers: ER25-389-000.

Applicants: PJM Interconnection, L.L.C.

Description: Tariff Amendment: Notice of Cancellation—WMPA Service Agreement No. 6203; Queue No. AF2-398 to be effective 1/7/2025.

Filed Date: 11/7/24.

Accession Number: 20241107-5072.

Comment Date: 5 p.m. ET 11/29/24.

Docket Numbers: ER25-390-000.

Applicants: Tri-State Generation and Transmission Association, Inc.

Description: Tariff Amendment: Notice of Cancellation of Rate Schedule FERC No. 353 to be effective 10/9/2024.

Filed Date: 11/7/24.

Accession Number: 20241107-5075.

Comment Date: 5 p.m. ET 11/29/24.

Docket Numbers: ER25-391-000.

Applicants: Deseret Generation & Transmission Co-operative, Inc.

Description: Compliance filing: 881 Compliance Filing Extension Request to be effective 6/23/2022.

Filed Date: 11/7/24.

Accession Number: 20241107-5128.

Comment Date: 5 p.m. ET 11/29/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 7, 2024.
Debbie-Anne A. Reese,
Secretary.

[FR Doc. 2024-26491 Filed 11-13-24; 8:45 am]

BILLING CODE 6717-01-P